DEPARTMENT OF AGRICULTURE

Grain Inspection, Packers and Stockyards Administration

7 CFR Part 810

RIN 0580-AB12

United States Standards for Wheat

Correction

PART 810 [CORRECTED]

In proposed rule document 2012-9182 appearing on page 23420 in the issue of Thursday, April 19, 2012, make the following correction:

On page 23420, in § 810.2240(a), the table is corrected to read as set forth below:

Grades and Grade Requirements

* * * * *

Maximum percent limits of:
Defects:
Damaged kernels
Heat (part of total) | 0.2 | 0.2 | 0.5 | 1.0 | .3.0
Total | 2.0 | 4.0 | 7.0 | 10.0 | 15.0
Foreign material | 0.4 | 0.7 | 1.3 | 3.0 | 5.0
Shrunken and broken kernels | 2.0 | 4.0 | 8.0 | 12.0 | 20.0
Total ¹ | 3.0 | 5.0 | 8.0 | 12.0 | 20.0
Wheat of other classes: ²
Contrasting classes | 1.0 | 2.0 | 3.0 | 10.0 | 10.0
Total ³ | 3.0 | 5.0 | 10.0 | 10.0 | 10.0
Stones | 0.1 | 0.1 | 0.1 | 0.1 | 0.1

[FR Doc. C1-2012-9182 Filed 4-27-12; 8:45 am]

BILLING CODE 1505-01-D